DEPARTMENT OF COMMERCE

National Oceanic and Atmospheric Administration

RIN 0648-XQ83

Taking and Importing of Marine Mammals

AGENCY: National Marine Fisheries Service (NMFS), National Oceanic and Atmospheric Administration (NOAA), Commerce.

ACTION: Notice; annual affirmative finding renewals.

SUMMARY: The Assistant Administrator for Fisheries, NMFS (Assistant Administrator), has renewed the affirmative findings for the Government of Ecuador, the Government of El Salvador, the Government of Mexico and the Government of Spain under the Marine Mammal Protection Act (MMPA). These affirmative findings will allow yellowfin tuna harvested in the eastern tropical Pacific Ocean (ETP) in compliance with the International Dolphin Conservation Program (IDCP) by Ecuadorian-flag, El Salvadorian-flag, Mexican-flag or Spanish-flag purse seine vessels or purse seine vessels operating under Ecuadorian, El Salvadorian, Mexican, or Spanish jurisdiction to be imported into the United States. These affirmative findings were based on review of documentary evidence submitted separately by the Governments of Ecuador, El Salvador, Mexico, and Spain and obtained from the Inter-American Tropical Tuna Commission (IATTC) and the U.S. Department of State.

DATES: The affirmative finding renewals are effective from April 1, 2009, through March 31, 2010.

FOR FURTHER INFORMATION CONTACT: Regional Administrator, Southwest Region, NMFS, 501 West Ocean Boulevard, Suite 4200, Long Beach, CA 90802-4213; phone 562-980-4000; fax 562-980-4018.

SUPPLEMENTARY INFORMATION: The MMPA, 16 U.S.C. 1361 et seq., allows the entry into the United States of yellowfin tuna harvested by purse seine vessels in the ETP under certain conditions. If requested by the harvesting nation, the Assistant Administrator for Fisheries (Assistant Administrator) will determine whether to make an affirmative finding based upon documentary evidence provided by the government of the harvesting nation, the IATTC, and the Department of State.

The affirmative finding process requires that the harvesting nation is meeting its obligations under the IDCP and obligations of membership in the IATTC. Every 5 years, the government of the harvesting nation must request an affirmative finding and submit the required documentary evidence directly to the Assistant Administrator. On an annual basis, NMFS reviews the affirmative finding and determine whether the harvesting nation continues to meet the requirements. A nation may provide information related to compliance with IDCP and IATTC measures directly to NMFS on an annual basis or may authorize the IATTC to release the information to NMFS to annually renew an affirmative finding determination without an application from the harvesting nation.

An affirmative finding will be terminated, in consultation with the Secretary of State, if the Assistant Administrator determines that the requirements of 50 CFR 216.24(f) are no longer being met or that a nation is consistently failing to take enforcement actions on violations, thereby diminishing the effectiveness of the IDCP.

As a part of the affirmative finding process set forth in 50 CFR 216.24(f), the Assistant Administrator considered documentary evidence submitted separately by the Government of Ecuador, the Government of El Salvador, the Government of Mexico, and the Government of Spain, as well as evidence obtained from the IATTC and the Department of State and has determined that Ecuador, El Salvador, Mexico and Spain have each met the MMPA's requirements to receive annual affirmative finding renewals.

After consultation with the Department of State, the Assistant Administrator issued annual affirmative finding renewals to the Governments of Ecuador, El Salvador, Mexico, and Spain, allowing the continued importation into the United States of yellowfin tuna and products derived from yellowfin tuna harvested in the ETP by Ecuadorian-flag, El Salvadorian-flag, Mexican-flag or Spanish-flag purse seine vessels or purse seine vessels operating under the jurisdiction of these nations. These annual renewals of affirmative findings for Ecuador, El Salvador, Mexico and Spain will remain valid through March 31, 2010.

Dated: August 7, 2009.
Samuel D. Rauch III,
Deputy Assistant Administrator for Regulatory Programs, National Marine Fisheries Service.

[FR Doc. E9-19470 Filed 8-12-09; 8:45 am]

BILLING CODE 3510-22-S